DEPARTMENT OF DEFENSE

Office of the Secretary

Membership of the Performance Review Board

AGENCY: Defense Information Systems Agency, DoD.

ACTION: Notice.

SUMMARY: This notice announces the appointment of the members of the Performance Review Board (PRB) of the Defense Information Systems Agency (DISA). The publication of PRB membership is required by 5 U.S.C. 4314(C)(4).

DATES: Effective October 1, 2010.

FOR FURTHER INFORMATION CONTACT: Rebecca Polansky, DISA SES Program Manager, Defense Information Systems Agency, Arlington, Virginia, (703) 607-4411.

SUPPLEMENTARY INFORMATION: The Performance Review Board (PRB) provides fair and impartial review of Senior Executive Service performance appraisals and makes recommendations regarding performance ratings and performance scores to the Director, DISA.

In accordance with 5 U.S.C. 4314(C)(4), the following executives are appointed to the Defense Information Systems Agency PRB:

Major General Ronnie D. Hawkins, Jr., USAF,

John J. Penkoske,

Anthony S. Montemarano,

Paige R. Atkins.

Executives listed will serve a one-year renewable term, effective October 1, 2010.

Dated: September 24, 2010.
Mitchell S. Bryman,
Alternate OSD Federal Register Liaison Officer, Department of Defense.

[FR Doc. 2010-24428 Filed 9-28-10; 8:45 am]

BILLING CODE 5001-06-P